DEPARTMENT OF HOMELAND SECURITY

[Docket No. DHS-2016-0061]

Meeting of the Homeland Security Academic Advisory Council

AGENCY: Department of Homeland Security.

ACTION: Committee Management; Notice of Federal Advisory Committee Meeting.

SUMMARY: The Homeland Security Academic Advisory Council will meet on October 19, 2016 in Washington, DC. The meeting will be open to the public.

DATES: The Homeland Security Academic Advisory Council will meet Wednesday, October 19, 2016, from 10:00 a.m. to 3:30 p.m. Please note that the meeting may close early if the Council has completed its business.

ADDRESSES: The meeting will be held at the Woodrow Wilson International Center (Wilson Center) for Scholars, 1300 Pennsylvania Ave. NW., 6th Floor, Moynihan Board Room, Washington, DC 20004. All visitors to the Wilson Center must bring a Government-issued photo ID.

For information on facilities or services for individuals with disabilities or to request special assistance at the meeting, send an email to AcademicEngagement@hq.dhs.gov or contact Lindsay Burton at 202-447-4686 as soon as possible.

To facilitate public participation, we are inviting public comment on the issues to be considered by the Council prior to the adoption of the recommendations as listed in the Supplementary Information section below. Comments must be submitted in writing no later than Tuesday, October 11, 2016, must include DHS-2016-0061 as the identification number, and may be submitted using one of the following methods:

• Federal eRulemaking Portal: http://www.regulations.gov. Follow the instructions for submitting comments.

• Email: AcademicEngagement@hq.dhs.gov. Include the docket number in the subject line of the message.

• Fax: 202-282-1044.

• Mail: Academic Engagement; Office of Academic Engagement/Mailstop 0440; Department of Homeland Security; 245 Murray Lane SW., Washington, DC 20528-0440

Instructions: All submissions received must include the words “Department of Homeland Security” and the docket number for this action. Comments received will be posted without alteration at http://www.regulations.gov, including any personal information provided.

Docket: For access to the docket, to read background documents or comments received by the Homeland Security Academic Advisory Council, go to http://www.regulations.gov and search for “Homeland Security Academic Advisory Council” then select the notice dated September 30, 2016.

One thirty-minute public comment period will be held during the meeting on October 19, 2016 after the conclusion of the presentation of draft recommendations, but before the Council deliberates. Speakers will be requested to limit their comments to three minutes. Contact the Office of Academic Engagement as indicated below to register as a speaker.

FOR FURTHER INFORMATION CONTACT: Lindsay Burton, Office of Academic Engagement/Mailstop 0440; Department of Homeland Security; 245 Murray Lane SW., Washington, DC 20528-0440, email: AcademicEngagement@hq.dhs.gov, tel: 202-447-4686 and fax: 202-282-1044.

SUPPLEMENTARY INFORMATION: Notice of this meeting is given under the Federal Advisory Committee Act, 5 U.S.C. appendix. The Homeland Security Academic Advisory Council provides advice and recommendations to the Secretary and senior leadership on matters relating to student and recent graduate recruitment; international students; academic research; campus and community resiliency, security and preparedness; faculty exchanges; and cybersecurity.

Agenda: Department of Homeland Security senior leadership will provide an update on the Department's efforts in implementing the Council's approved recommendations as well as its recent initiatives with the academic community. The Council subcommittees may provide progress reports and present draft recommendations for action in response to the taskings issued by the Department.

The meeting materials will be posted to the Council Web site at: http://www.dhs.gov/homeland-security-academic-advisory-council-hsaac on or before October 14, 2016.

Responsible Dhs Official: Trent Frazier, AcademicEngagement@hq.dhs.gov, 202-447-4686.

Dated: September 8, 2016.
Trent Frazier,
Executive Director for Academic Engagement.

[FR Doc. 2016-22123 Filed 9-29-16; 8:45 am]

BILLING CODE 9110-9B-P